DEPARTMENT OF JUSTICE

Federal Bureau of Investigation

Agency Information Collection Activities: Proposed Collection, Comments Requested

ACTION: 30-day notice of information collection under review: Extension of a currently approved collection Bioterrorism Preparedness Act: Entity/Individual Information.

The Department of Justice, Federal Bureau of Investigation, Criminal Justice Information Services Division has submitted the following information collection request to the Office of Management and Budget (OMB) for review and clearance in accordance with established review procedures of the Paperwork Reduction Act of 1995. The proposed information collection is published to obtain comments from the public and affected agencies. This proposed information collection was previously published in the Federal Register on April 27, 2006, Volume 71,

Number 81, Page 24869 allowing for a 60 day comment period.

The purpose of this notice is to allow for an additional 30 days for public comment until August 2, 2006. This process is conducted in accordance with 5 CFR 1320.10.

Written comments and/or suggestions regarding the items contained in this notice, especially the estimated public burden and associated response time, should be directed to John E. Strovers, CJIS Division Intelligence Group, Federal Bureau of Investigation, Criminal Justice Information Services Division, (CJIS), Module E-3, 1000 Custer Hollow Road, Clarksburg, West Virginia 26306; facsimile (304) 625-5393.

Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of This Information Collection

(1) Type of information collection: Extension of current collection.

(2) The title of the form/collection: Federal Bureau of Investigation Bioterrorism Preparedness Act: Entity/Individual Information.

(3) The agency form number, if any, and the applicable component of the department sponsoring the collection: Forms FD-961; Criminal Justice Information Services Division, Federal Bureau of Investigation, Department of Justice.

(4) Affected public who will be asked or required to respond, as well as a brief abstract: Primary: City, county, state, federal, individuals, business or other for profit, and not-for-profit institute.

This collection is needed to receive names and other identifying information submitted by individuals requesting access to specific agents or toxins, and consult with appropriate officials of the Department of Health and Human Services and the Department of Agriculture as to whether certain individuals specified in the provisions should be denied access to or granted limited access to specific agents.

(5) An estimate of the total number of respondents and the amount of time estimated for an average respondent to respond: There are approximately 3,184 (FY 2005) respondents at 45 minutes for FD-961 Form.

(6) An estimate of the total public burden (in hours) associated with this collection:

There are approximately 2,388 hours, annual burden, associated with this information collection.

If additional information is required contact: Robert B. Briggs, Department Clearance Officer, Information Management and Security Staff, Justice Management Division, United States Department of Justice, Patrick Henry Building, Suite 1600, 601 D Street, NW., Washington, DC 20530.

Dated: June 28, 2006.
Lynn Bryant,
Department Deputy Clearance Officer, United States Department of Justice.

[FR Doc. E6-10404 Filed 6-30-06; 8:45 am]

BILLING CODE 4410-02-P